FEDERAL RESERVE SYSTEM

Change in Bank Control Notices; Acquisitions of Shares of a Bank or Bank Holding Company

The notificant listed below has applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 23, 2017.

A. Federal Reserve Bank of Minneapolis (Jacquelyn K. Brunmeier, Assistant Vice President) 90 Hennepin Avenue, Minneapolis, Minnesota 55480-0291:

1. The Franklin G. Larson Revocable Trust, Franklin G. Larson trustee, Valley City, North Dakota, Mary JoAndrea Larson Irrevocable Spousal Trust, Franklin G. Larson, trustee, Valley City, North Dakota; Scott M. Larson, Stillwater, Oklahoma; Wyatt Larson Irrevocable Trust, Scott Larson trustee, Stillwater, Oklahoma; Michael J. Larson, Fargo, North Dakota; Heidi J. Barranger, Zephyr Cove, Nevada; Nicholas Barranger, Fountain Hills, Arizona; Michelle Larson, Bismarck, North Dakota; Paige Larson 2015 Irrevocable Trust 1, First Lawyers Trust Company Joel Black trustee; Rapid City, South Dakota; and Annika Larson 2015 Irrevocable Trust 1, First Lawyers Trust Company Joel Black trustee, to retain shares of Starion Bancorporation, and thereby indirectly control Starion Bank, both Bismarck, North Dakota.

Board of Governors of the Federal Reserve System, February 2, 2017.
Yao Chin Chao,
Assistant Secretary of the Board.

[FR Doc. 2017-02580 Filed 2-7-17; 8:45 am]

BILLING CODE P